DEPARTMENT OF ENERGY

Federal Energy Regulatory Commission

[Docket No. CP09-449-000]

Wyoming Interstate Company, Ltd.; Notice of Filing

August 10, 2009.

Take notice that on July 29, 2009, Wyoming Interstate Company, Ltd. (WIC), Post Office Box 1087, Colorado Springs, Colorado 80944, filed an application, pursuant to section 7(c) of the Natural Gas Act (NGA) and part 157 of the Commission's Rules and Regulations, for a certificate of public convenience and necessity authorizing WIC to construct, own, operate and maintain a new compressor station located in Uintah County, Utah (the Diamond Mountain Compressor Station). WIC also requests a pre-determination of rolled-in rate treatment for the costs associated with the project and approval of incremental fuel charges for transportation service provided by the proposed facilities. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Pursuant to the demand for additional pipeline capacity on WIC's Kanda Lateral pipeline system from producers with gas supplies in the geologic Uinta Basin of Utah, the proposed project will require the installation of two Taurus 70 compressor units totaling 20,604 horsepower. The Diamond Mountain Compressor Station will create an additional capacity of 180,000 MMcf/day on the Kanda Lateral. Bill Barrett Corporation (Barrett) and Anadarko Energy Services Company (Andarko) have entered into transportation precedent agreements supporting the project for a term of 10 years. The facilities will be constructed on a 15 acre site managed by the BLM. WIC requests a pre-determination of rolled-in rate treatment for the project costs, exclusive of fuel costs which will be recovered through new incremental charges. WIC proposes a service date of October 31, 2010.

Any questions regarding the application are to be directed to Richard Derryberry, Director, Regulatory Affairs Department, Wyoming Interstate Company, Ltd., P.O. Box 1087, Colorado Springs, Colorado 80904; phone number (719) 520-3782.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: August 31, 2009.

Kimberly D. Bose,
Secretary.

[FR Doc. E9-19622 Filed 8-14-09; 8:45 am]

BILLING CODE 6717-01-P